DEPARTMENT OF ENERGY

Federal Energy Regulatory Commission

[Project Nos. 1982-017, 2567-009, 2639-009, 2491-025, and 2440-040—Wisconsin and Project No. 2670-014—Wisconsin]

Northern States Power Company, and City of Eau Claire; Notice of Availability of Environmental Assessment

July 24, 2002.

In accordance with the National Environmental Policy Act of 1969 and the Federal Energy Regulatory Commission's (Commission's) regulations, 18 CFR part 380 (Order No. 486, 52 FR 47897), the Office of Energy Projects has reviewed the applications for new license for the Holcombe, Wissota, and Dells Projects, and amendments to license for the Chippewa Falls, Jim Falls, and Cornell Projects, located on the Chippewa River, in Chippewa, Rusk, and Eau Claire Counties, Wisconsin, and has prepared an Environmental Assessment (EA) for the projects. In the EA, the Commission's staff has analyzed the potential environmental effects of the projects, and has concluded that approval of the projects and amendments, with appropriate environmental measures, would not constitute a major Federal action significantly affecting the quality of the human environment.

Copies of the EA are available for review in the Public Reference Branch, Room 2-A, of the Commission's offices at 888 First Street, NE., Washington, DC 20426. The EA may also be viewed on the web at http://www.ferc.gov using the “RIMS” link, select “Docket#” and follow the instructions. Please call (202) 208-2222 for assistance.

Any comments should be filed within 30 days from the date of this notice and should be addressed to Magalie R. Salas, Secretary, Federal Energy Regulatory Commission, 888 First Street, NE., Room 1-A, Washington, DC 20426. Please affix “Holcombe, Wissota, Dells, Cornell, Jim Falls, and Chippewa Falls Project Nos. 1982-017, 2567-009, 2670-014, 2639-009, 2491-025, and 2440-040” to all comments. For further information, contact Mark Pawlowski at (202) 219-2795 or e-mail mark.pawlowski@ferc.gov. Comments may be filed electronically via the Internet in lieu of paper. See 18 CFR 385.2001(a)(1)(iii) and the instructions on the Commission's web site under the “e-Filing” link.

Linwood A. Watson, Jr.,
Deputy Secretary.

[FR Doc. 02-19203 Filed 7-29-02; 8:45 am]

BILLING CODE 6717-01-P